DEPARTMENT OF ENERGY

Federal Energy Regulatory Commission

[Docket No. AD08-5-000]

Compliance Workshop; Notice of Comment Period for Workshop on Regulatory Compliance

July 10, 2008.

As announced at the Workshop on Regulatory Compliance held July 8, 2008, the Commission is providing the opportunity for written comments to be filed in this proceeding until July 22, 2008.

The Commission encourages electronic submission in lieu of paper using the “eFiling” link at http://www.ferc.gov. Persons unable to file electronically should submit an original and 14 copies of comments to the Federal Energy Regulatory Commission, 888 First Street, NE., Washington, DC 20426.

Kimberly D. Bose,
Secretary.

[FR Doc. E8-16303 Filed 7-16-08; 8:45 am]

BILLING CODE 6717-01-P